DEPARTMENT OF COMMERCE

International Trade Administration

[A-552-801]

Certain Frozen Fish Fillets From the Socialist Republic of Vietnam: Final Results of the Antidumping Duty Administrative Review and New Shipper Reviews

AGENCY: Import Administration, International Trade Administration, Department of Commerce.

SUMMARY: The Department of Commerce (“Department”) is conducting an administrative review and two new shipper reviews of the antidumping duty order on certain frozen fish fillets from the Socialist Republic of Vietnam (“Vietnam”). See Notice of Antidumping Duty Order: Certain Frozen Fish Fillets from the Socialist Republic of Vietnam, 68 FR 47909 (August 12, 2003) (“Order”). The administrative review and new shipper reviews includes three companies, including QVD Food Company Ltd. (“QVD”), the mandatory respondent, and the two new shipper review companies are Binh An Seafood Joint Stock Co. (“Binh An”) and Southern Fishery Industries Company, Ltd. (“South Vina”). We preliminarily found that Binh An and QVD did not sell subject merchandise at less than normal value (“NV”) and thus received zero margins during the period of review (“POR”), August 1, 2006, through July 31, 2007. We also preliminarily rescinded South Vina. See Certain Frozen Fish Fillets From the Socialist Republic of Vietnam: Notice of Preliminary Results of the New Shipper Review and Fourth Antidumping Duty Administrative Review and Partial Rescission of the Fourth Administrative Review, 73 FR 52015 (September 8, 2008) (“Preliminary Results”). We conducted verifications of Binh An and South Vina and subsequently issued a post-preliminary calculation for South Vina. See New Shipper Review of Certain Frozen Fish Fillets from the Socialist Republic of Vietnam: Post-Preliminary Results Analysis for Southern Fishery Industries Co., Ltd. dated January 13, 2009. We gave interested parties an opportunity to comment on the Preliminary Results and the Post-preliminary results for South Vina. Based upon our analysis of the comments and information received, we made changes to the dumping margin calculations for the final results. See Memorandum to the File from Alan Ray, Case Analyst, through Alex Villanueva, Program Manager, Final Results Analysis for QVD and its Affiliates (March 9, 2009); Memorandum to the File from Matthew Renkey, Senior Case Analyst, through Alex Villanueva, Program Manager, Final Results Analysis for Binh An Seafood Joint Stock Company (“Binh An”) (March 9, 2009); and Memorandum to the File from Javier Barrientos, Senior Case Analyst, through Alex Villanueva, Program Manager, Final Results Analysis for Southern Fishery Industries Co., Ltd. (“South Vina”) (March 9, 2009). The final dumping margins are listed below in the section entitled “Final Results of the Reviews.”

DATES: Effective Date: March 17, 2009.

FOR FURTHER INFORMATION CONTACT: Alan Ray or Javier Barrientos, AD/CVD Operations, Office 9, Import Administration, International Trade Administration, U.S. Department of Commerce, 14th Street and Constitution Avenue, NW., Washington, DC 20230; telephone: (202) 482-5403 and (202) 482-2243, respectively.

SUPPLEMENTARY INFORMATION:

Case History

On September 8, 2008, the Department published in the Federal Register the preliminary results of this new shipper and administrative review of the antidumping duty order on certain frozen fish fillets from Vietnam. Since the Preliminary Results, the following events have occurred.

From September 17-19, 2008, the Department conducted the verification of Binh An Binh An in Can Tho City, Vietnam. From September 22-24, 2008, the Department verified South Vina in Can Tho City, Vietnam.

South Vina and An Xuyen Company Ltd. (“An Xuyen”) submitted case briefs on January 5 and 23, 2009, respectively. On February 3, 2009, Petitioners, Catfish Farmers of America and individual U.S. catfish processors, and QVD Food Company (“QVD”) submitted case briefs. On February 10, 2009, Petitioners, South Vina, Binh An, and QVD submitted rebuttal briefs.

On October 20, 2008, the Department extended the time limit for completion of the final results of this administrative review by 60 days. See Certain Frozen Fish Fillets from the Socialist Republic of Vietnam: Extension of Time Limit for Final Results of the New Shipper and Fourth Antidumping Duty Administrative Review, 73 FR 63435 (October 24, 2008).

On February 25, 2009, the Department conducted a public and a closed hearing. On March 3, 2009, the Department placed additional information on the record. Petitioners and QVD submitted comments regarding this additional information on March 5, 2009.

Scope of the Order

The product covered by the order is frozen fish fillets, including regular, shank, and strip fillets and portions thereof, whether or not breaded or marinated, of the species Pangasius Bocourti, Pangasius Hypophthalmus (also known as Pangasius Pangasius), and Pangasius Micronemus. Frozen fish fillets are lengthwise cuts of whole fish. The fillet products covered by the scope include boneless fillets with the belly flap intact (“regular” fillets), boneless fillets with the belly flap removed (“shank” fillets), boneless shank fillets cut into strips (“fillet strips/finger”), which include fillets cut into strips, chunks, blocks, skewers, or any other shape. Specifically excluded from the scope are frozen whole fish (whether or not dressed), frozen steaks, and frozen belly-flap nuggets. Frozen whole dressed fish are deheaded, skinned, and eviscerated. Steaks are bone-in, cross-section cuts of dressed fish. Nuggets are the belly-flaps. The subject merchandise will be hereinafter referred to as frozen “basa” and “tra” fillets, which are the Vietnamese common names for these species of fish. These products are classifiable under tariff article codes 1604.19.4000, 1604.19.5000, 0305.59.4000, 0304.29.6033 (Frozen Fish Fillets of the species Pangasius including basa and tra) of the Harmonized Tariff Schedule of the United States (“HTSUS”).¹ The order covers all frozen fish fillets meeting the above specification, regardless of tariff classification. Although the HTSUS subheading is provided for convenience and customs purposes, our written description of the scope of the order is dispositive.

¹ Until July, 2004, these products were classifiable under tariff article codes 0304.20.60.30 (Frozen Catfish Fillets), 0304.20.60.96 (Frozen Fish Fillets, NESOI), 0304.20.60.43 (Frozen Freshwater Fish Fillets) and 0304.20.60.57 (Frozen Sole Fillets) of the HTSUS. Until February 1, 2007, these products were classifiable under tariff article code 0304.20.60.33 (Frozen Fish Fillets of the species Pangasius including basa and tra) of the HTSUS.

Analysis of Comments Received

All issues raised in the case and rebuttal briefs by parties to this proceeding and to which we have responded are listed in the Appendix to this notice and addressed in the Issues and Decision Memorandum (“Final Decision Memo”), which is hereby adopted by this notice. Parties can find a complete discussion of the issues raised in this administrative review and the corresponding recommendations in this public memorandum which is on file in the Central Records Unit (“CRU”), room 1117 of the main Department building. In addition, a copy of the Final Decision Memo can be accessed directly on our Web site at http://ia.ita.doc.gov/. The paper copy and electronic version of the Final Decision Memo are identical in content.

Verification

As provided in section 782(i) of the Tariff Act, as amended (“Act”), we conducted verification of the information submitted by Binh An and South Vina for use in our final results. See Memorandum to the File, through Alex Villanueva, Program Manager, AD/CVD Operations, Office 9, from Matthew Renkey, Senior Case Analyst, AD/CVD Operations, Office 9, Certain Frozen Fish Fillets from the Socialist Republic of Vietnam: Verification of Binh An Seafood Joint Stock Company, dated December 9, 2008 and Memorandum to the File, through Alex Villanueva, Program Manager, AD/CVD Operations, Office 9, from Javier Barrientos, Senior Case Analyst, AD/CVD Operations, Office 9, Certain Frozen Fish Fillets from the Socialist Republic of Vietnam: Verification of Southern Fishery Industries Co., Ltd., dated December 10, 2008. For all companies, we used standard verification procedures, including examination of relevant accounting and production records, as well as original source documents provided by the respondents.

Changes Since the Preliminary Results

Based on a review of the record as well as comments received from parties regarding our Preliminary Results, we have made revisions to the margin calculation for QVD, South Vina, and Binh An for the final results. For all changes to the calculations of QVD, Binh An and South Vina, see the Final Decision Memo and company specific analysis memoranda. For changes to the surrogate values see Memorandum to the File, through Alex Villanueva, Program Manager, AC/CVD Operations, Office 9, from Alan Ray, case analyst, AD/CVD Operations, Office 9, New Shipper Review and Fourth Antidumping Duty Administrative Review of Certain Frozen Fish Fillets from the Socialist Republic of Vietnam: Surrogate Values for the Final Results.

Final Results of the Reviews

The weighted-average dumping margins for the POR are as follows:

Certain Frozen Fish Fillets From Vietnam
Manufacturer/exporter | Weighted- average margin
QVD ² | 0.52
South Vina | 0.00
Binh An | 0.00
Agifish ³ | 0.52
Anvifish ³ | 0.52
Vietnam-Wide Entity ⁴ | 63.88

Assessment

The Department will determine, and U.S. Customs and Border Protection (“CBP”) shall assess, antidumping duties on all appropriate entries, pursuant to 19 CFR 351.212(b). We have calculated importer-specific duty assessment rates on a per-unit basis. Specifically, we divided the total dumping margins (calculated as the difference between normal value and export price or constructed export price) for each importer by the total quantity of subject merchandise sold to that importer during the POR to calculate a per-unit assessment amount. In this and future reviews, we will direct CBP to assess importer-specific assessment rates based on the resulting per-unit (i.e., per-kilogram) rates by the weight in kilograms of each entry of the subject merchandise during the POR. The Department intends to issue appropriate assessment instructions directly to CBP 15 days after publication of the final results of these administrative and new shipper reviews.

² This rate is applicable to the QVD Single Entity which includes QVD, QVD Dong Thap, and Thuan Hung Co. Ltd.

³ For the exporters subject to review that are determined to be eligible for separate-rate status, but were not selected as mandatory respondents, the Department normally establishes a weighted-average margin based on an average of the rates it calculated for the mandatory respondents, excluding any rates that are zero, de minimis, or based entirely on facts available. In this proceeding, there is only one such mandatory respondent, QVD. Accordingly, the rate calculated for QVD is applied as the rate for Agifish and Anvifish.

⁴ This includes An Xuyen.

Cash Deposit Requirements

The following cash-deposit requirements will be effective upon publication of the final results of these administrative and new shipper reviews for all shipments of the subject merchandise entered, or withdrawn from warehouse, for consumption on or after the publication date, as provided for by section 751(a)(2)(C) of the Act: (1) The cash deposit rate for each of the reviewed companies that received a separate rate in this review will be the rate listed in the final results of review (except that if the rate for a particular company is de minimis, i.e., less than 0.5 percent, no cash deposit will be required for that company); (2) for previously investigated companies not listed above, the cash deposit rate will continue to be the company-specific rate published for the most recent period of review; (3) if the exporter is not a firm covered in this review, a prior review, or the original less than fair value investigation, but the manufacturer is, the cash deposit rate will be the rate established for the most recent period for the manufacturer of the merchandise; and (4) the cash deposit rate for all other manufacturers or exporters will be the Vietnam-wide rate of 63.88 percent. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing the final results of these administrative and new shipper reviews and notice in accordance with sections 751(a)(1) and (2) and 777(i) of the Act.

Dated: March 9, 2009.
Ronald K. Lorentzen,
Acting Assistant Secretary for Import Administration.

Appendix I—Decision Memorandum

COMMENT 1: SURROGATE FINANCIAL RATIOS

A. Bionic ⁵

⁵ Bionic Sea Food (“Bionic”).

B. Gemini ⁶

⁶ Gemini Sea Food Ltd. (“Gemini”).

COMMENT 2: SURROGATE VALUE FOR WHOLE LIVE FISH

COMMENT 3: SURROGATE VALUE FOR BROKEN FILLETS

COMMENT 4: INFLATORS FOR CERTAIN FACTORS OF PRODUCTION

COMMENT 5: QVD

A. QVD'S U.S. SALES DATA

B. INTERNATIONAL FREIGHT CALCULATION

C. DUTY ABSORPTION

D. COLLAPSING QVD/DONG THAP AND THUAN HUNG

E. LABELS SURROGATE VALUE

F. DIESEL FUEL SURROGATE VALUE

COMMENT 6: AGIFISH SEPARATE RATE MARGIN

COMMENT 7: AN XUYEN SEPARATE RATE MARGIN

COMMENT 8: SOUTH VINA

A. BONA FIDE SALES

B. SURROGATE VALUE FOR HYDRATECH

C. SURROGATE VALUE FOR WHITECH

COMMENT 9: BINH AN

A. BONA FIDE SALES

B. INTERNATIONAL FREIGHT

C. DIESEL

D. ELECTRICITY

[FR Doc. E9-5744 Filed 3-16-09; 8:45 am]

BILLING CODE 3510-DS-P